FEDERAL HOUSING FINANCE BOARD

Sunshine Act Meeting Notice; Announcing a Partially Open Meeting of the Board of Directors

Time and Date: The open meeting of the Board of Directors is scheduled to begin at 10 a.m. on Wednesday, May 10, 2006. The closed portion of the meeting will follow immediately the open portion of the meeting.

Place: Board Room, First Floor, Federal Housing Finance Board, 1625 Eye Street NW., Washington DC 20006.

Status: The first portion of the meeting will be open to the public. The final portion of the meeting will be closed to the public.

Matter to be Considered at the Open Portion: 2006 Designation of Federal Home Loan Bank Directorships.

Matter to be Considered at the Closed Portion: Periodic Update of Examination Program Development and Supervisory Findings.

FOR FURTHER INFORMATION CONTACT: Shelia Willis, Paralegal Specialist, Office of General Counsel, at 202-408-2876 or williss@fhfb.gov.

Dated: May 3, 2006.
By the Federal Housing Finance Board.
John P. Kennedy,
General Counsel.

[FR Doc. 06-4301 Filed 5-4-06; 9:52 am]

BILLING CODE 6725-01-P